DEPARTMENT OF EDUCATION

Notice of Proposed Information Collection Requests

AGENCY: Department of Education.

ACTION: Notice of proposed information collection requests.

SUMMARY: The Acting Leader, Regulatory Information Management, Office of the Chief Information Officer, invites comments on the proposed information collection requests as required by the Paperwork Reduction Act of 1995.

DATES: An emergency review has been requested in accordance with the Act (44 U.S.C. Chapter 3507(j)), since public harm is reasonably likely to result if normal clearance procedures are followed. Approval by the Office of Management and Budget (OMB) has been requested by May 13, 2002. A regular clearance process is also beginning. Interested persons are invited to submit comments on or before July 15, 2002.

ADDRESSES: Written comments regarding the emergency review should be addressed to the Office of Information and Regulatory Affairs, Attention: Karen Lee, Desk Officer: Department of Education, Office of Management and Budget; 725 17th Street, NW., Room 10235, New Executive Office Building, Washington, DC 20503 or should be electronically mailed to the internet address Karen_F._Lee@omb.eop.gov.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Acting Leader, Information Management Group, Office of the Chief Information Officer, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment. The Department of Education is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on respondents, including through the use of information technology.

Dated: May 10, 2002.
Joseph Schubart,
Acting Leader, Regulatory Information Management, Office of the Chief Information Officer.

Office of the Undersecretary

Type of Review: Revision.

Title: Evaluation of the Partnership Grants Program, Title II, Higher Education Act.

Abstract: The purpose of the Title II Partnership Grants Program evaluation is to assess the impact, strengths and weaknesses of the Partnership Grants Program, one of the three programs authorized in Title II of the Higher Education Act (HEA) Amendments of 1998. This request, to revise the Title II evaluation to include a school/university partnership survey for elementary school principals, will assist the U.S. Department of Education in understanding the characteristics of collaborations between public elementary schools and institutions of higher education (IHEs) that are participating in Title II partnership activities, as well as the assocations between school/IHE collaborations and school-level student achievement outcomes.

Additional Information: This survey is an essential component of the evaluation of the Title II HEA Partnership Grants Program and has been designed to address the Administration's interest in understanding the associations between school/university partnership activities and student assessments at the school level. Without an emergency clearance, the data collection would have to be postponed until Fall, 2002, which would have two adverse consequences. First, it would require a change in the target year of inquiry to be the 2001-2002 school year, which would likely increase the sampling frame substantially. This would, therefore, have a serious effect on survey costs. Second, this survey is designed to be longitudinal. Delaying the first data collection until Fall, 2002 would mean that no data would be available about the earliest stages of partnership activities. This will make it difficult to describe the evolution of partnership activities from their earliest stages forward. Clearance is needed by May 13, 2002 to ensure that survey data can be collected before the end of the 2001-02 school year this Spring/Summer.

Frequency: Biennially.

Affected Public: State, Local, or Tribal Gov't, SEAs or LEAs.

Reporting and Recordkeeping Hour Burden:

Responses: 800.

Burden Hours: 178.

Requests for copies of the proposed information collection request may be accessed from http://edicsweb.ed.gov, by selecting the “Browse Pending Collections” link and by clicking on link number 2034. When you access the information collection, click on “Download Attachments “ to view. Written requests for information should be addressed to Vivian Reese, Department of Education, 400 Maryland Avenue, SW., Room 4050, Regional Office Building 3, Washington, DC 20202-4651 or to the e-mail address vivan.reese@ed.gov. Requests may also be electronically mailed to the internet address OCIO_RIMG@ed.gov or faxed to 202-708-9346. Please specify the complete title of the information collection when making your request.

Comments regarding burden and/or the collection activity requirements, contact Kathy Axt at her internet address Kathy.Axt@ed.gov. Individuals who use a telecommunications device for the deaf (TDD) may call the Federal Information Relay Service (FIRS) at 1-800-877-8339.

[FR Doc. 02-12090 Filed 5-14-02; 8:45 am]

BILLING CODE 4000-01-P